DEPARTMENT OF AGRICULTURE

Forest Service

36 CFR Part 294

Idaho Roadless Rule

AGENCY: Forest Service, USDA.

ACTION: Final rule.

SUMMARY: The U.S. Department of Agriculture (USDA), Forest Service is modifying the boundaries for the Big Creek, Grandmother Mountain, Pinchot Butte, Roland Point, and Wonderful Peak Idaho Roadless Areas on the Idaho Panhandle National Forests to include lands acquired within and/or adjacent to these roadless areas. In addition, the Forest Service is correcting mapping errors involving Forest Plan Special Areas in the Salmo-Priest and Upper Priest Idaho Roadless Areas. The Forest Service is also making an administrative correction to add the Buckhorn Ridge Idaho Roadless Area to the list under the Kootenai National Forest. These modifications and corrections are pursuant to Forest Service regulations.

DATES: This final rule is effective June 11, 2014.

FOR FURTHER INFORMATION CONTACT: Anne Davy, Idaho Roadless Coordinator, USDA Forest Service, Northern Region, 200 E. Broadway, Missoula, MT 5980; (406) 329-3314. Additional information concerning these administrative corrections and modifications, including the corrected maps, may be obtained on the Internet at http://roadless.fs.fed.us. Individuals who use telecommunication devices for the deaf (TDD) may call the Federal Information Relay Service (FIRS) at 1-800-877-8339 between 8:00 a.m. and 8:00 p.m., Eastern Standard Time, Monday through Friday.

SUPPLEMENTARY INFORMATION:

Background

The following modifications and corrections will update five roadless areas due to land exchanges that occurred after the Idaho Roadless Rule was finalized, correct two roadless area mapping errors associated with Forest Plan Special Areas, and correct the list at 36 CFR 294.29 because an area had been inappropriately shown as only located on the Idaho Panhandle National Forest instead of split between the Idaho Panhandle and Kootenai National Forests. The Idaho Roadless Rule authorizes administrative corrections to the maps of lands identified in 36 CFR 294.22(c), including but not limited to, adjustment that remedy clerical errors, typographical errors, mapping errors, or improvements in mapping technology. Pursuant to 36 CFR 294.27(b), the Chief of the Forest Service may issue administrative corrections after a 30-day public notice and opportunity to comment. The Final Rule also authorizes modifications that add to, remove from, or modify the designations and management classifications listed in 36 CFR 294.29 based on changed circumstances or public need. The Chief of the Forest Service may issue modifications after a 45-day public notice and opportunity to comment.

The Forest Service published a proposed rule in the Federal Register on April 19, 2013 (78 FR 23522) for a 45-day public comment period. The Forest Service presented the corrections and modifications to the State of Idaho's Roadless Rule Advisory Commission on April 5, 2012 and the Governor of Idaho has recommended the Forest Service proceed with the modifications.

Comments on the Proposal

The Forest Service received two comments on the proposed modifications and corrections.

The first respondent was opposed to the expansion of the five Idaho Roadless Areas. This respondent did not feel the expansion would better the country, state, counties, and cities.

Response: The modifications to the five Idaho Roadless Areas adds 1,464 acres to the existing 9.3 million acres of roadless areas in Idaho. The additions are necessary because of land exchanges that occurred since the Idaho Roadless Rule was finalized. All the acres are either surrounded by existing Idaho Roadless Areas or are adjacent to an existing Idaho Roadless Area. Adding these lands to existing or adjacent roadless areas will result in a consistent management approach. The Idaho Roadless Rule represents a compromise that balances the nationally recognized need for conservation of roadless areas with being more responsive to local communities and citizens.

The second respondent agreed with the modifications and administrative corrections to Big Creek, Pinchot Butte, Roland Point, Wonderful Peak, Salmo-Priest, and Upper Priest Idaho Roadless Areas, but did not agree with two of the five modifications to Grandmother Mountain. Two of the parcels are adjacent to lands classified as Wildland Recreation and lands classified as Backcountry/Restoration. The respondent believes the acquired lands should be classified as Wildland Recreation, not Backcountry/Restoration.

Response: The Forest Service believes the Backcountry/Restoration is the more appropriate management classification for these parcels for two reasons. First, the majority of the parcels border existing Idaho Roadless Areas classified as Backcountry Restoration. A smaller portion of the parcels that border existing Idaho Roadless Areas classified as Wildland Recreation. Second, the respondent is a member of the State of Idaho's Roadless Rule Advisory Commission and supported the Commission's April 23, 2012 letter to the Governor of Idaho supporting the proposed modifications.

Modifications Due to Lands Acquired Through Land Exchanges

The Forest Service is modifying the following Idaho Roadless Areas due to acquisition of lands through land exchanges that occurred since the Idaho Roadless Rule was finalized in the fall of 2008. These modifications will update the maps with correct ownership and management classifications.

Big Creek Idaho Roadless Area #143. Two parcels of land, 158 acres, are added to the Big Creek roadless area and are classified as Backcountry Restoration. These modifications occur in T46N, R2E, section 11; and T47N, R2E, section 35, Boise Meridian and were part of the Spooky Butte Land Exchange.

Grandmother Mountain Idaho Roadless Area #148. Five parcels of land, 1,107 acres, are added to Grandmother Mountain roadless area and are classified as Backcountry Restoration. These modifications occur in T43N, R3E, section 26; and T43N, R4E, sections 5, 7, 17, and 31, Boise Meridian and were part of the Grandmother Mountain Land Exchange and an unnamed land exchange with a single party.

Pinchot Butte Idaho Roadless Area #149. One parcel of land, 80 acres, is added to Pinchot Butte roadless area and is classified as Backcountry Restoration. Bureau of Land Management lands surround this parcel on three sides and are also roadless. These modifications occur in T43N, R4E, section 33, Boise Meridian and were part of the Grandmother Mountain Land Exchange.

Roland Point Idaho Roadless Area #146. One parcel of land, 60 acres, is added to Roland Point roadless area and will be classified as Backcountry Restoration. These modifications occur in T47N, R6E, sections 29, 31, and 32, Boise Meridian and were part of the Lucky Swede Land Exchange.

Wonderful Peak Idaho Roadless Area #152. One parcel of land, 59 acres, is added to Wonderful Peak roadless area and will be classified as Backcountry Restoration. These modifications occur in T47N, R6E, sections 19 and 20, Boise Meridian and were part of the Olson Wondeful Land Exchange.

Technical Correction to Theme Classifications

Salmo-Priest Idaho Roadless Area #981. The Idaho Roadless Rule is modified to correct a mapping error. A small portion (65 acres) of the Salmo- Priest Idaho Roadless Area is changed from a Forest Plan Special Area to Wild Land Recreation. This change reflects the width of the eligible Wild and Scenic River (Hughes Fork) located in this section. These modifications occur in T63N, R5W, sections 5 and 6; T64N, R5W, sections 20, 28 and 29, Boise Meridian.

Upper Priest Idaho Roadless Area #123. The Idaho Roadless Rule is modified to correct a mapping error. A small portion (112 acres) of the Upper Priest Roadless Area is changed from Backcountry/Restoration to a Forest Plan Special Area. This change reflects the width of the eligible Wild and Scenic River (Hughes Fork) located in this section. These proposed modifications occur in T62N, R4W, sections 6, 7 and 8; T62N, R5W, section 1; T63N, R5W, sections 12, 13, 16, 21, 28, 33, and 34, Boise Meridian.

List of Subjects in 36 CFR Part 294

National Forests, Navigation (air), Recreation areas, State petitions for inventoried roadless area management.

For the reasons set forth in the preamble, the Forest Service amends part 294 of Title 36 of the Code of Federal Regulations as follows:

PART 294—SPECIAL AREAS

1. The authority citation for part 294 continues to read as follows:

Authority: 16 U.S.C. 472, 529, 551, 1608, 1613; 23 U.S.C. 201, 205.

Subpart C—Idaho Roadless Area Management

2. Amend the table in § 294.29 by adding a new entry for the Kootenai National Forest to read as follows:

§ 294.29 List of designated Idaho Roadless Areas.

* * * * *

Forest | Idaho roadless area | # | WLR | Primitive | BCR | GFRG | SAHTS | FPSA
Kootenai | Buckhorn Ridge | 661 |  |  | X |  |  |

* * * * *

Dated: June 6, 2014.
Thomas L. Tidwell,
Chief, Forest Service.

[FR Doc. 2014-13627 Filed 6-10-14; 8:45 am]

BILLING CODE 3411-15-P